DEPARTMENT OF ENERGY

Federal Energy Regulatory Commission

[Docket No. RP03-36-005]

Dauphin Island Gathering Partners; Notice of Tariff Filing

October 9, 2003.

Take notice that on October 3, 2003, Dauphin Island Gathering Partners (Dauphin Island) tendered for filing as part of its FERC Gas Tariff, First Revised Volume No. 1, the tariff sheets listed below to become effective October 1, 2003:

Fifteenth Revised Sheet No. 9

Twelfth Revised Sheet No. 10

Dauphin Island states that these tariff sheets reflect changes to Maximum Daily Quantities (MDQ's) and shipper names.

Dauphin Island states that copies of the filing are being served contemporaneously on all participants listed on the service list in this proceeding and on all persons who are required by the Commission's regulations to be served with the application initiating these proceedings.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's web site under the e-Filing link.

Protest Date: October 15, 2003.

Magalie R. Salas,
Secretary.

[FR Doc. E3-00266 Filed 11-14-03; 8:45 am]

BILLING CODE 6717-01-P